ENVIRONMENTAL PROTECTION AGENCY

[FRL-9264-6]

Science Advisory Board Staff Office; Notification of a Public Meeting of a Science Advisory Board Work Group

AGENCY: Environmental Protection Agency (EPA).

ACTION: Notice.

SUMMARY: The EPA Science Advisory Board (SAB) Staff Office announces a public meeting of a work group of the Chartered Science Advisory Board to discuss the President's FY 2012 Budget Request for the EPA Office of Research and Development.

DATES: The meeting dates are March 3, 2011 from 1 p.m. to 6 p.m. and March 4, 2011 from 8 a.m. to 4 p.m. (Eastern Time).

ADDRESSES: The meeting will be held at the Four Points by Sheraton, 1201 K Street, NW., Washington, DC.

FOR FURTHER INFORMATION CONTACT: Any member of the public wishing to obtain general information concerning this public meeting should contact Dr. Angela Nugent, Designated Federal Officer (DFO), EPA Science Advisory Board (1400R), 1200 Pennsylvania Ave., NW., Washington, DC 20460; via telephone/voice mail: (202) 564-2218; fax: (202) 565-2098; or e-mail at nugent.angela@epa.gov. General information concerning the EPA Science Advisory Board can be found on the SAB Web site at http://www.epa.gov/sab.

SUPPLEMENTARY INFORMATION: The SAB was established pursuant to the Environmental Research, Development, and Demonstration Authorization Act (ERDAA), codified at 42 U.S.C. 4365, to provide independent scientific and technical advice to the Administrator on the technical basis for Agency positions and regulations. The SAB is a Federal Advisory Committee chartered under the Federal Advisory Committee Act (FACA), 5 U.S.C., App. 2. Pursuant to FACA and EPA policy, notice is hereby given that a work group of the chartered SAB will hold a public meeting to discuss the President's requested Fiscal Year 2012 Budget to support EPA research needs. The SAB work group and the SAB will comply with the provisions of FACA and all appropriate SAB Staff Office procedural policies.

Background: The chartered SAB conducts a review of the EPA research budget annually and provides written comments to the EPA Administrator and to Congress, as requested, on the adequacy of EPA's requested research budget. At the meeting, a work group of the chartered SAB will receive briefings on the requested research budget for Fiscal Year 2012 and develop a draft report for review by the full chartered SAB. The report will provide comments on the requested budget, in light of EPA's research needs. Previous SAB budget advisories are on the SAB Web site at http://www.epa.gov/sab.

Availability of Meeting Materials: The agenda and other materials in support of the meeting will be placed on the SAB Web site at http://www.epa.gov/sab in advance.

Procedures for Providing Public Input: Public comment for consideration by EPA's federal advisory committees and panels has a different purpose from public comment provided to EPA program offices. Therefore, the process for submitting comments to a federal advisory committee is different from the process used to submit comments to an EPA program office.

Federal advisory committees and panels, including scientific advisory committees, provide independent advice to EPA. Members of the public can submit comments on the topics included in this advisory activity and/or the group conducting the activity. They should send their comments directly to the Designated Federal Officer for the relevant advisory committee. Oral Statements: In general, individuals or groups requesting an oral presentation at a public meeting will be limited to five minutes per speaker, with no more than a total of one hour for all speakers. Interested parties should contact Dr. Nugent, DFO, in writing (preferably via e-mail) at the contact information noted above by February 28, 2011 to be placed on a list of public speakers for the meeting. Written Statements: Written statements should be received in the SAB Staff Office by February 28, 2011 so that the information may be made available to the chartered SAB members for their consideration and placed on the SAB Web site for public information. Written statements should be supplied to the DFO in the following formats: One hard copy with original signature, and one electronic copy via e-mail (acceptable file format: Adobe Acrobat PDF, WordPerfect, MS Word, MS PowerPoint, or Rich Text files in IBM-PC/Windows 98/2000/XP format). Submitters are asked to provide versions of each document submitted with and without signatures, because the SAB Staff Office does not publish documents with signatures on its Web sites.

Accessibility: For information on access or services for individuals with disabilities, please contact Dr. Angela Nugent at (202) 564-2218, or nugent.angela@epa.gov. To request accommodation of a disability, please contact Dr. Nugent, preferably at least 10 days prior to the meeting, to give EPA as much time as possible to process your request.

Dated: February 3, 2011,
Anthony Maciorowski,
Deputy Director, EPA Science Advisory Board Staff Office.

[FR Doc. 2011-2876 Filed 2-8-11; 8:45 am]

BILLING CODE 6560-50-P